DEPARTMENT OF COMMERCE

National Oceanic and Atmospheric Administration

[RTID 0648-XE330]

Endangered and Threatened Species; Draft Recovery Plan for the Giant Manta Ray (Mobula birostris); Notice of Initiation of a 5-Year Review for the Giant Manta Ray

AGENCY: National Marine Fisheries Service (NMFS), National Oceanic and Atmospheric Administration (NOAA), Department of Commerce.

ACTION: Notice of availability of draft recovery plan; request for comments; notice of initiation; request for information.

SUMMARY: We, the National Marine Fisheries Service (NMFS), announce the availability of a Draft Endangered Species Act (ESA) Recovery Plan (Draft Recovery Plan) for the threatened giant manta ray (Mobula birostris) for public review. We are soliciting review and comment from the public and all interested parties on the Draft Recovery Plan, and will consider all substantive comments received during the review period before submitting the Recovery Plan for final approval. We are also initiating a 5-year review of the giant manta ray and are requesting new information on its status.

DATES: Comments on the Draft Recovery Plan must be received by December 16, 2024.

ADDRESSES: You may submit comments on the Draft Recovery Plan, identified by NOAA-NMFS-2024-0110 by any of the following methods:

Electronic Submissions: Submit all electronic comments via the Federal eRulemaking Portal. Visit https://www.regulations.gov and type NOAA-NMFS-2024-0110 in the Search box. Click on the “Comment” icon, complete the required fields, and enter or attach your comments.

Mail: Submit written comments to Endangered Species Division, Office of Protected Resources, National Marine Fisheries Service, 1315 East-West Highway (SSMC3), Silver Spring, MD 20910, Attn: Giant Manta Ray Recovery Plan.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the Draft Recovery Plan and supporting documents are available online at: https://www.fisheries.noaa.gov/species/giant-manta-ray/conservation-management.

FOR FURTHER INFORMATION CONTACT: Maggie Miller, (301) 427-8457, margaret.h.miller@noaa.gov.

SUPPLEMENTARY INFORMATION:

Background

The ESA of 1973, as amended (16 U.S.C. 1531 et seq.), requires that NMFS develop and implement recovery plans for the conservation and survival of threatened and endangered species under our jurisdiction, unless it is determined that such plans would not promote the conservation of the species. Section 4(f)(1) of the ESA requires that recovery plans incorporate, to the maximum extent practicable: (1) site-specific management actions necessary to achieve the plan's goals; (2) objective, measurable criteria which, when met, would result in a determination that the species is no longer threatened or endangered; and (3) estimates of the time required and costs to implement recovery actions.

We listed the giant manta ray (Mobula birostris) as a threatened species under the ESA on January 22, 2018 (83 FR 2916). The giant manta ray is found worldwide in tropical, subtropical, and temperate bodies of water. Yet, despite its large range, the species is encountered infrequently (with the exception of a few areas noted for manta ray aggregations). Although there is considerable uncertainty regarding the species' current abundance throughout its range, the best available information indicated that the species experienced population declines of potentially significant magnitude due to fisheries-related mortality within the Indian Ocean and the Western Pacific and Eastern Pacific subregions of its range, which we determined qualifies as a “significant portion its range” under the final Significant Portion of Its Range (SPR) policy (79 FR 37577; July 1, 2014). Based on the best available scientific and commercial information, and after considering efforts being made to protect the giant manta ray, we determined that it was likely to become an endangered species within the foreseeable future throughout a significant portion of its range (83 FR 2916; January 22, 2018). Accordingly, the giant manta ray was listed as threatened.

Globally, giant manta rays are both targeted and caught as bycatch in a number of fisheries throughout their range, and are most susceptible to artisanal/small-scale fisheries (Miller and Klimovich 2017). With the expansion of the international mobulid gill plate market and increasing demand for manta ray products, estimated take of giant manta rays, particularly in many portions of the SPR, frequently exceeds numbers of identified individuals in those areas. Observations from these areas also indicate declines in sightings and landings of the species. Given the species' extremely low reproductive output and overall productivity, it is inherently vulnerable to threats that would deplete its abundance, with a low likelihood of recovery. Unfortunately, efforts to address overutilization of the species through regulatory measures appear inadequate, with evidence of targeted fishing of the species and bycatch retention despite prohibitions, and a lack of local, regional, and international measures and/or enforcement (Miller and Klimovich 2017).

Development of the Draft Recovery Plan

In December 2019, we developed a recovery outline to systematically and cohesively guide recovery for the giant manta ray until we completed a recovery plan. The recovery outline is available on our website at: https://www.fisheries.noaa.gov/species/giant-manta-ray/conservation-management.

In 2022, we held a virtual meeting to elicit expert opinion on the challenges associated with recovering a wide-ranging species and potential ways to facilitate the recovery of the giant manta ray. We invited experts from a range of relevant disciplines to participate in the meeting and provide input and feedback. We utilized the information provided at this meeting to prioritize threats that are most urgent and significant and will need to be minimized/controlled for the recovery of the species. This helped serve as the foundation for our recovery criteria, actions and activities.

The recovery planning components for the giant manta ray are divided into three separate documents. The first document, the Recovery Status Review, provides detailed information on the giant manta ray's biology, ecology, status and threats, and conservation efforts to date, which has typically been included in the background section of a species' recovery plan. This separate document is designed to inform all post-listing activities, including recovery planning, and is a comprehensive update to the original 2017 status review (Miller and Klimovich 2017). The Recovery Status Review may be revised as new information becomes available. The second document, the Draft Recovery Plan, focuses on the statutory components of a recovery plan, as required under the ESA to be incorporated to the maximum extent practicable: (1) a description of site-specific management actions necessary for the conservation and survival of the species (recovery actions); (2) objective, measurable criteria that, when met, will allow the species to be removed from the endangered and threatened species list; and (3) estimates of the time and cost required to achieve the plan's goals. Site-specific recovery actions in the Draft Recovery Plan are described at a relatively high level and are strategic in nature. The third document, the Draft Recovery Implementation Strategy, is a flexible, operational document separate from the Draft Recovery Plan. The Draft Recovery Implementation Strategy provides specific activities necessary to implement fully recovery actions in the Draft Recovery Plan, while affording us the ability to modify these activities efficiently to reflect changes in the information available as well as progress towards recovery. All three of the recovery planning documents, including the Recovery Status Review, the Draft Recovery Plan, and the Draft Recovery Implementation Strategy, are available on the NMFS giant manta ray website at: https://www.fisheries.noaa.gov/species/giant-manta-ray/conservation-management.

We have determined that this Draft Recovery Plan for the giant manta ray meets the statutory requirements for a recovery plan and are proposing to adopt it as the ESA recovery plan for this threatened species. Section 4(f)(4) of the ESA requires that public notice and an opportunity to comment be provided prior to final approval of a recovery plan. This notice solicits comments on this Draft Recovery Plan.

Contents of the Draft Recovery Plan

The Draft Recovery Plan presents NMFS' proposed recovery goal, objectives, and criteria, which, when met, would allow the giant manta ray to be delisted. The proposed demographic and threats-based recovery objectives and criteria are based on the listing factors found in the ESA section 4(a)(1). The proposed demographic and threats-based recovery objectives and criteria for the giant manta ray address threats from significant population declines, targeted catch in artisanal/small-scale fisheries, bycatch-related mortality in artisanal/small-scale and commercial fisheries, international trade of its gill plates, inadequate regulatory mechanisms, and illegal retention and enforcement issues. Additionally, it identifies stressors that should be monitored for potential future impact, such as climate change. The Draft Recovery Plan also describes specific information on the following: current status of the giant manta ray, threats that have contributed to the species' decline, recovery strategies to address the threats, and site-specific recovery actions with timelines. Finally, the Draft Recovery Plan estimates the time and costs required to implement recovery actions.

The Draft Recovery Implementation Strategy provides specific, prioritized activities necessary to implement fully recovery actions in the Draft Recovery Plan. This stepped-down approach will afford us the ability to modify these activities efficiently to reflect changes in the information available as well as progress towards recovery.

How NMFS and Others Expect To Use the Plan

In addition to continuing to carry out actions already underway, such as satellite and acoustic tag deployment and analysis, genetic sampling, and other research activities designed to improve our understanding of manta ray distribution, abundance, and population connectivity, we have begun implementation of other actions described in the Draft Recovery Plan. For example, we are currently providing domestic education and training programs for fishermen to enhance safe handling of giant manta rays and providing the public with outreach messaging to reduce harm and increase awareness of giant manta rays. In addition, we anticipate reviewing whether additional protective regulations under section 4(d) of the ESA may be appropriate to provide for the conservation of the giant manta ray in U.S. waters. After public comment and the adoption of the Recovery Plan, our intention is to implement the actions and activities for which we have authority and funding; encourage other international, Federal, State, and local agencies to implement recovery actions and activities for which they have responsibility, authority, and funding; and work cooperatively with the public and local stakeholders on implementation of other recovery actions and activities. We expect the Recovery Plan to guide us and other Federal agencies in evaluating Federal actions under ESA section 7, as well as in implementing other provisions of the ESA.

Public Comments Solicited

We are soliciting written comments on the Draft Recovery Plan. All substantive comments received by the date specified above will be considered and incorporated, as appropriate, prior to our decision on whether to approve this Recovery Plan. While we invite comments on all aspects of the Draft Recovery Plan, we are particularly interested in comments on the proposed objectives, criteria, and actions, as well as comments on the estimated time and cost of recovery actions and activities.

In addition, the ESA requires that we conduct a review of listed species at least once every five years. This will be the first review of this species pursuant to this provision of the ESA since it was listed in 2018 under the ESA. The regulations in 50 CFR 424.21 require that we publish a notice in the Federal Register announcing species currently under active review. On the basis of such reviews, we determine under the ESA 4(c)(2)(B) whether any species should be removed from the list (i.e., delisted) or reclassified from endangered to threatened or from threatened to endangered (16 U.S.C. 1533(c)(2)(B)). Any change in federal classification would require a separate rulemaking process.

To ensure that the 5-year review is complete and based on the best available scientific and commercial information, we are soliciting new information from the public, governmental agencies, Tribes, the scientific community, industry, environmental entities, and any other interested parties concerning the status of the giant manta ray. Comments and information submitted will be considered in the 5-year review, as applicable.

Authority: 16 U.S.C. 1533(f)

Dated: October 8, 2024.
Lisa Manning,
Acting Chief, Endangered Species Conservation Division, Office of Protected Resources, National Marine Fisheries Service.

[FR Doc. 2024-23755 Filed 10-11-24; 8:45 am]

BILLING CODE 3510-22-P